DEPARTMENT OF TRANSPORTATION

Federal Transit Administration

[Safety Advisory 14-3]

Vintage/Heritage Trolley Vehicle B and K Operating Controllers

AGENCY: Federal Transit Administration (FTA), Department of Transportation (DOT).

ACTION: Notice of safety advisory.

SUMMARY: Today the Federal Transit Administration (FTA) is issuing Safety Advisory 14-3 advising rail transit agencies that operate reconditioned vintage/heritage trolley vehicles manufactured prior to January 1, 1956, of an operating concern regarding B and K high voltage operating controllers. This safety advisory recommends specific and immediate action for rail transit agencies not overseen by the Federal Railroad Administration (FRA), and provides supporting technical resources.

The FTA's Safety Advisory 14-3, “Vintage/Heritage Trolley Vehicle B and K Operating Controllers,” is available in its entirety on the agency's public Web site (http://www.fta.dot.gov/tso_15922.html).

FOR FURTHER INFORMATION CONTACT: For program matters, Thomas Littleton, Associate Administrator for Transit Safety and Oversight, telephone (202) 366-1783 or Thomas.Littleton@dot.gov. For legal matters, Scott Biehl, Senior Counsel, telephone (202) 366-0826 or Scott.Biehl@dot.gov.

SUPPLEMENTARY INFORMATION: Vintage/heritage trolley vehicles and their components may not meet modern engineering and safety standards, also present unique operational and maintenance challenges.

Action Required: Recent vehicle fires involving B and K high voltage operating controllers represent a safety concern. As such, the FTA is instructing rail transit agencies operating vintage/heritage trolley vehicles to inspect B and K high voltage operating controllers for signs of heat damage, evidence of fire, arcing and flashovers. Agencies should take appropriate corrective actions if evidence of these conditions is discovered. Additionally, please notify Ms. Kimberly Burtch in the FTA Office of System Safety at (202) 366-0816 if any evidence of heat damage, fire, arcing and flashovers is discovered in the inspection process. The FTA's issuance of Safety Advisory 14-3 is in accordance with the Federal Transit Administrator's authority to “investigate public transportation accidents and incidents and provide guidance to recipients regarding prevention of accident and incidents.” 49 U.S.C. 5329(f)(5).

Issued in Washington, DC, this 28th day of July, 2014.
Therese W. McMillan,
Deputy Administrator, Federal Transit Administration.

[FR Doc. 2014-18149 Filed 7-31-14; 8:45 am]

BILLING CODE P